ENVIRONMENTAL PROTECTION AGENCY

40 CFR Part 63

[EPA-HQ-OAR-2008-0334; FRL-8742-8]

RIN 2060-AM19

National Emission Standards for Hazardous Air Pollutants for Chemical Manufacturing Area Sources

AGENCY: Environmental Protection Agency (EPA).

ACTION: Notice of extension of public comment period.

SUMMARY: EPA is announcing an extension of the public comment period on the proposed rule, “National Emission Standards for Hazardous Air Pollutants for Chemical Manufacturing Area Sources.” As initially published in the Federal Register on October 6, 2008, written comments on the proposed rule were to be submitted by November 20, 2008. On November 12, 2008, EPA received a court order extending the deadline for signature of the notice of final rulemaking to May 15, 2009, and we are extending the public comment period on the proposed rule to January 5, 2009.

DATES: Comments. Comments on the proposed rule must be received on or before January 5, 2009.

ADDRESSES: Submit your comments, identified by Docket ID No. EPA-HQ-OAR-2008-0334, by one of the following methods:

• http://www.regulations.gov: Follow the on-line instructions for submitting comments.

• E-mail: a-and-r-Docket@epa.gov.

• Fax: (202) 566-9744.

• Mail: U.S. Postal Service, send comments to: EPA Docket Center (2822T), Docket No. EPA-HQ-OAR-2008-0334, Environmental Protection Agency, 1200 Pennsylvania Ave., NW., Washington, DC 20460. Please include a total of two copies. We request that a separate copy also be sent to the contact person identified below (see FOR FURTHER INFORMATION CONTACT).

• Hand Delivery: In person or by courier, deliver comments to: EPA Docket Center (2822T), EPA West Building, Room 3444, 1301 Constitution Ave., NW., Washington, DC 20004. Such deliveries are only accepted during the Docket's normal hours of operation, and special arrangements should be made for deliveries of boxed information. Please include a total of two copies.

Instructions: Direct your comments to Docket ID No. EPA-HQ-OAR-2008-0334. EPA's policy is that all comments received will be included in the public docket without change and may be made available online at http://www.regulations.gov, including any personal information provided, unless the comment includes information claimed to be confidential business information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically through http://www.regulations.gov or in hard copy at the EPA Docket Center (2822T), EPA West Building, Room 3444, 1301 Constitution Ave., NW., Washington, DC. The Public Reading Room is open from 8:30 a.m. to 4:30 p.m., Monday through Friday, excluding legal holidays. The telephone number for the Public Reading Room is (202) 566-1744, and the telephone number for the EPA Docket Center is (202) 566-1742.

FOR FURTHER INFORMATION CONTACT: For further information, contact Mr. Randy McDonald, Office of Air Quality Planning and Standards, Sector Policies and Programs Division, Coatings and Chemicals Group (E143-01), Environmental Protection Agency, Research Triangle Park, NC 27711; telephone number: (919) 541-5402; fax number: (919) 541-0246; e-mail address: mcdonald.randy@epa.gov.

SUPPLEMENTARY INFORMATION:

General Information

Extension of Public Comment Period

We proposed the national emission standards for hazardous air pollutants (NESHAP) as part of our effort to comply with a court-ordered deadline that requires EPA to issue final standards for 10 area source categories listed pursuant to Clean Air Act sections 112(c)(3) and (k) by December 15, 2008 (Sierra Club v. Johnson, no. 01-1537, D.D.C., March 2006). To meet this deadline, we proposed NESHAP for nine area source categories in the chemical manufacturing sector. The proposal was published in the Federal Register on October 6, 2008 (73 FR 58352).

We received several requests to extend the public comment period by up to 55 days. Commenters requested more time to review the information in the docket and prepare in-depth comments. We agree that the comment period should be extended to allow more time for interested parties to prepare comprehensive comments. At the request of EPA, the Court has extended EPA's deadline for the nine area source categories at issue in the proposed rule from December 15, 2008, to May 15, 2009. Therefore, the public comment period will now end on January 5, 2009, rather than November 20, 2008. (The public comment period is currently scheduled to end on November 20, 2008, instead of November 5, 2008, because a public hearing was requested and held on October 21, 2008.)

What should I consider as I prepare my comments for EPA?

1. Submitting CBI

Do not submit information that you consider to be CBI electronically through http://www.regulations.gov or e-mail. Send or deliver information identified as CBI only to the following address: Roberto Morales, OAQPS Document Control Officer (C404-02), Environmental Protection Agency, Office of Air Quality Planning and Standards, Research Triangle Park, NC 27711, Attention Docket ID EPA-HQ-OAR-2008-0334. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

If you have any questions about CBI or the procedures for claiming CBI, please consult the person identified in the FOR FURTHER INFORMATION CONTACT section.

2. Availability of Related Information

The proposed rule for the National Emission Standards for Hazardous Air Pollutants for Chemical Manufacturing Area Sources was published in the Federal Register on October 6, 2008 (73 FR 58352). EPA has established the official public docket for the proposed rulemaking under Docket ID No. EPA-HQ-OAR-2008-0334. Information on how to access the docket is presented above in the ADDRESSES section. In addition to being available in the docket, an electronic copy of the proposed rule is available on the World Wide Web through the Technology Transfer Network (TTN) at http://www.epa.gov/ttn/oarpg.

Dated: November 14, 2008.
Robert J. Meyers,
Principal Deputy Assistant Administrator for Air and Radiation.

[FR Doc. E8-27609 Filed 11-19-08; 8:45 am]

BILLING CODE 6560-50-P